DEPARTMENT OF HOMELAND SECURITY

Coast Guard

33 CFR Part 117

[Docket No. USCG-2013-1039]

Drawbridge Operation Regulation; Upper Mississippi River, Sabula, IA

AGENCY: Coast Guard, DHS.

ACTION: Notice of deviation from drawbridge regulations.

SUMMARY: The Coast Guard has issued a temporary deviation from the operating schedule that governs the Sabula Railroad Drawbridge across the Upper Mississippi River, mile 535.0, at Sabula, Iowa. The deviation is necessary to allow the bridge owner time to perform repairs and maintenance that is essential to the continued safe operation of the drawbridge. This deviation allows the bridge to remain in the closed-to-navigation position while a damaged gear assembly is replaced and structural steel repairs are completed.

DATES: This deviation is effective from 7 a.m., January 6, 2014 to 7 a.m., March 4, 2014.

ADDRESSES: The docket for this deviation, USCG-2013-1039 is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Eric A. Washburn, Bridge Administrator, Western Rivers, Coast Guard; telephone 314-269-2378, email Eric.Washburn@uscg.mil. If you have questions on viewing the docket, call Cheryl Collins, Program Manager, Docket Operations, telephone 202-366-9826.

SUPPLEMENTARY INFORMATION: The Canadian Pacific Railway requested a temporary deviation for the Sabula Railroad Drawbridge, across the Upper Mississippi River, mile 535.0, at Sabula, Iowa to remain in the closed-to-navigation position while a damaged gear assembly is replaced and structural steel repairs are completed. The closure period will start at 7 a.m., January 6, 2014 to 7 a.m., March 4, 2014. Work is scheduled in the winter and when there is less impact on navigation; instead of scheduling work in the summer, when river traffic increases.

Once the gear assembly is removed and structural steel repairs have commenced, the swing span will not be able to open, even for emergencies, until repairs are complete and gear assembly is installed.

The Sabula Railroad Drawbridge currently operates in accordance with 33 CFR 117.5, which states the general requirement that drawbridges shall open promptly and fully for the passage of vessels when a request to open is given in accordance with the subpart. In order to facilitate the needed bridge work, the drawbridge must be kept in the closed-to-navigation position.

There are no alternate routes for vessels transiting this section of the Upper Mississippi River.

The Sabula Railroad Drawbridge, in the closed-to-navigation position, provides a vertical clearance of 18.1 feet above normal pool. Navigation on the waterway consists primarily of commercial tows and recreational watercraft. This temporary deviation has been coordinated with the waterway users. No objections were received.

In accordance with 33 CFR 117.35(e), the drawbridge must return to its regular operating schedule immediately at the end of the effective period of this temporary deviation. This deviation from the operating regulations is authorized under 33 CFR 117.35.

Dated: December 18, 2013.
Eric A. Washburn,
Bridge Administrator, Western Rivers.

[FR Doc. 2014-00284 Filed 1-9-14; 8:45 am]

BILLING CODE 9110-04-P